DEPARTMENT OF COMMERCE

Bureau of Industry and Security

National Infrastructure Advisory Council; Amended Notice of Open Meeting

The time of the meeting of the National Infrastructure Advisory Council (NIAC) scheduled for Friday, February 7, 2003, notice of which previously appeared in the Federal Register (see 68 FR 4167, January 28, 2003), has changed. The meeting will now commence at 11:15 a.m., rather than at 12 p.m.

As previously announced, the meeting will be open to interested members of the public via conference call-in line. Members of the public interested in attending by telephone should call (toll free) 1-888-899-7785 or (toll) 1-913-312-4169 and, when prompted, enter pass code 1468517.

The Council advises the President of the United States on the security of information systems for critical infrastructure supporting other sectors of the economy, including banking and finance, transportation, energy, manufacturing, and emergency government services.

Agenda

I. Formal Opening of Meeting—Nancy J. Wong, Acting Director, Critical Infrastructure Assurance Office, U.S. Department of Commerce; Designated Federal Officer, NIAC

II. Introduction of NIAC Members [Roll Call]

III. Welcoming remarks—Howard A. Schmidt, Vice Chairman, President's Critical Infrastructure Protection Board; Acting Executive Director, NIAC; Kenneth I. Juster, Under Security of Commerce for Industry and Security, U.S. Department of Commerce

IV. Welcoming remarks—Richard K. Davidson, Chairman, NIAC; John T. Chambers, Vice Chairman, NIAC

V. Briefing Concerning National Security Telecommunications Advisory Committee (NSTAC) Activities and Responsibilities

a. Introduction of NSTAC Chairman and Vice Chairman—Mr. Schmidt

b. Briefing—Dr. Vance D. Coffman, Chairman and CEO, Lockheed Martin, and Chairman, NSTAC; and Mr. F. Duane Ackerman, President, Chairman & CEO, BellSouth, and Vice Chairman, NSTAC

c. Question and Answer Session—Dr. Coffman, Mr. Ackerman, NIAC Members

VI. Introduction and Discussion of Possible Topics for Future NIAC Study:

a. Internet Protocol Version 6.0 (IPv6)—Vice Chairman Chambers

b. Responsible Disclosure of Cyber Vulnerabilities, Attacks/Incidents—Vice Chairman Chambers; and John W. Thompson, Chairman and CEO, Symantec Corporation, Member of the NIAC

VII. Adjournment

Written comments may be submitted at any time before or after the meeting. Please direct them to the following address: Ms. Wanda Rose, Critical Infrastructure Assurance Office, Bureau of Industry and Security, U.S. Department of Commerce, Room 6095, 14th Street & Constitution Avenue, NW., Washington, DC 20230.

For more information contact Wanda Rose on (202) 482-7481.

Dated: February 4, 2003.
Eric T. Werner,
Council Liaison Officer.

[FR Doc. 03-3107 Filed 2-4-03; 3:35 pm]

BILLING CODE 3510-JT-M